DEPARTMENT OF JUSTICE

Notice of Lodging Proposed Consent Decree

In accordance with Departmental Policy, 28 CFR 50.7, notice is hereby given that a proposed Consent Decree in Nu-West Mining, Inc. and Nu-West Industries, Inc. v. United States, Civil Action No. 90-431-E-BLW, was lodged with the United States District Court for the District of Idaho on September 7, 2012.

The proposed Consent Decree concerns a complaint filed by Nu-West Mining, Inc. and Nu-West Industries, Inc. (collectively “Nu-West”) against the United States under Sections 107 and 113 of the Comprehensive Environmental Response, Compensation, and Liability Act (“CERCLA”), 42 U.S.C. 9607 and 9613, seeking to hold the United States liable for past and future response costs relating to the clean-up of contamination at four phosphate mines in Southeast Idaho. The United States counterclaimed against Nu-West under Sections 107 and 113 of CERCLA, 42 U.S.C. 9607 and 9613, seeking to hold Nu-West liable for these response costs. The proposed Consent Decree resolves all asserted claims and counterclaims by allocating response costs between Nu-West and the United States.

The Department of Justice will accept written comments relating to the proposed Consent Decree for thirty (30) days from the date of publication of this Notice. Comments should be addressed to the Assistant Attorney General, Environment and Natural Resources Division, and either emailed to pubcomment-ees.enrd@usdoj.gov or mailed to the United States Department of Justice, P.O. Box 7611, Washington DC 20044-7611. Please refer to Nu-West Mining, Inc. and Nu-West Industries, Inc. v. United States, DJ # 90-11-3-1776/5.

The proposed Consent Decree may be examined at the Clerk's Office, United States District Court for the District of Idaho, 801 E. Sherman Street, Room 119, Pocatello, ID 83201. In addition, the proposed Consent Decree may be examined electronically at http://www.usdoj.gov/enrd/Consent_Decrees.html. A copy of the proposed Consent Decree may also be obtained by mail from the Consent Decree Library, United States Department of Justice, P.O. Box 7611, Washington, DC 20044-7611, or by emailing or faxing a request to “Consent Decree Copy” (eescdcopy.enrd@usdoj.gov), fax number (202) 514-0097, phone confirmation number (202) 514-5271. In requesting a copy from the Consent Decree Library, please enclose a check in the amount of $6.75 (25 cents per page reproduction cost) payable to the United States Treasury.

Cherie L. Rogers,
Assistant Section Chief, Environmental Defense Section, Environment & Natural Resources Division.

[FR Doc. 2012-23168 Filed 9-19-12; 8:45 am]

BILLING CODE P